DEPARTMENT OF AGRICULTURE

Forest Service

South Mt. Baker-Snoqualmie Resource Advisory Committee

AGENCY: Forest Service, USDA.

ACTION: Notice of meetings.

SUMMARY: The South Mt. Baker-Snoqualmie Resource Advisory Committee (RAC) will meet Thursday, April 25, 2002, at the Washington State University Puyallup Research and Extension Center, 7612 E. Pioneer Way, Puyallup, WA 98371-4998.

The meeting will begin at 9 a.m. and continue until about 4:00 p.m. Agenda items to be covered include: (1) Background for the Secure Rural Schools and Community Self-Determination Act of 2000, (2) Organization and future program of work for the South Mt. Baker-Snoqualmie Resource Advisory Committee.

All South Mt. Baker-Snoqualmie Resource Advisory Committee meetings are open to the public. Interested citizens are encouraged to attend.

The South Mt. Baker-Snoqualmie Resource Advisory Committee advises King and Pierce Counties on projects, reviews project proposals, and makes recommendations to the Forest Supervisor for projects to be funded by Title II dollars. The South Mt. Baker-Snoqualmie Resource Advisory Committee was established to carry out the requirements of the Secure Rural Schools and Community Self-Determination Act of 2000.

FOR FURTHER INFORMATION CONTACT: Direct questions regarding this meeting to Penny Sundblad, Management Specialist, USDA Forest Service, Mt. Baker-Snoqualmie National Forest, 810 State Route 20, Sedro Woolley, Washington 98284 (360-856-5700, Extension 321).

Dated: March 26, 2002.
Ron DeHart,
Acting Designated Federal Official.

[FR Doc. 02-7758 Filed 3-29-02; 8:45 am]

BILLING CODE 3410-11-M